ADMINISTRATIVE CONFERENCE OF THE UNITED STATES

Draft Model Adjudication Rules; Comment Request

AGENCY: Administrative Conference of the United States.

ACTION: Notice.

SUMMARY: The Office of the Chairman of the Administrative Conference of the United States is revising its 1993 Model Adjudication Rules and is inviting public comment on the draft revised Rules. The current draft of the revised Rules is available at https://www.acus.gov/model-rules/model-adjudication-rules.

DATES: Comments must be received no later than 10:00 a.m. (EDT), Friday, February 23, 2018.

ADDRESSES: Persons who wish to comment on the current draft of the revised Model Adjudication Rules may do so by submitting a written statement either online by clicking “Submit a comment” near the bottom of the project web page found at https://www.acus.gov/research-projects/office-chairman-model-adjudication-rules-working-group or by U.S. Mail addressed to Revised Model Adjudication Rules Comments, Administrative Conference of the United States, Suite 706 South, 1120 20th Street NW, Washington, DC 20036.

FOR FURTHER INFORMATION CONTACT: Daniel Sheffner, Attorney Advisor, Administrative Conference of the United States, 1120 20th Street NW, Suite 706 South, Washington, DC 20036; Telephone (202) 480-2080.

SUPPLEMENTARY INFORMATION: The Administrative Conference Act, 5 U.S.C. 591-596, established the Administrative Conference of the United States. The Conference studies the efficiency, adequacy, and fairness of the administrative procedures used by Federal agencies and makes recommendations for improvements to agencies, the President, Congress, and the Judicial Conference of the United States.

The Office of the Chairman of the Administrative Conference of the United States has established a working group—the Model Adjudication Rules Working Group—to review and revise the Conference's Model Adjudication Rules. Released in 1993 by a similar working group of the Conference, the Model Adjudication Rules were designed for use by federal agencies to amend or develop their procedural rules for hearings conducted under the Administrative Procedure Act.

Numerous agencies have relied on the Conference's 1993 Model Rules to improve existing adjudicative schemes; and newer agencies, like the Consumer Financial Protection Bureau, have relied on them to design new procedures. Significant changes in adjudicative practices and procedures since 1993—including use of electronic case management and video hearings—necessitate a careful review and revision of the Model Adjudication Rules. In reviewing and revising the Model Rules, the Working Group has relied on the Conference's extensive empirical research of adjudicative practices reflected in the Federal Administrative Adjudication Database, available at https://acus.law.stanford.edu/; amendments to the Federal Rules of Civil Procedure since 1993; and input from agency officials, academics, practitioners, and other stakeholders.

Additional information about the Administrative Conference's Model Adjudication Rules, including the draft Rules, meeting agendas, a listing of the working group members tasked with revising the Rules, and other related information, can be found on the Conference's website at https://www.acus.gov/research-projects/office-chairman-model-adjudication-rules-working-group.

Dated: January 17, 2018.
Shawne McGibbon,
General Counsel.

[FR Doc. 2018-01045 Filed 1-19-18; 8:45 am]

BILLING CODE 6110-01-P